SMALL BUSINESS ADMINISTRATION

[Disaster Declaration #16955 and #16956; Mississippi Disaster Number MS-00135]

Presidential Declaration Amendment of a Major Disaster for Public Assistance Only for the State of Mississippi

AGENCY: U.S. Small Business Administration.

ACTION: Amendment 1.

SUMMARY: This is an amendment of the Presidential declaration of a major disaster for Public Assistance Only for the State of Mississippi (FEMA-4598-DR), dated 5/04/2021.

Incident: Severe Winter Storms. Incident Period: 02/11/2021 through 02/19/2021.

DATES: Issued on 07/07/2021.

Physical Loan Application Deadline Date: Filing Period for counties listed below ends on 09/07/2021.

Economic Injury (EIDL) Loan Application Deadline Date: Filing Period for counties listed below ends on 04/07/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Mississippi, dated 5/04/2021, is hereby amended to include the counties listed below. Please contact the SBA disaster customer service center by email at disastercustomerservice@sba.gov or by phone at 1-800-659-2955 to request an application. Applications for physical damages may be filed until 09/07/2021 and applications for economic injury may be file until 04/07/2022.

Primary Counties: Clay, Holmes, Quitman, Webster, Wilkinson.

All other information in the original declaration remains unchanged.

(Catalog of Federal Domestic Assistance Number 59008)

James Rivera,
Associate Administrator for Disaster Assistance.

[FR Doc. 2021-15061 Filed 7-14-21; 8:45 am]

BILLING CODE 8026-03-P